ENVIRONMENTAL PROTECTION AGENCY

[EPA-R08-SFUND-2023-0488; FRL-11438-01-R8]

Administrative Settlement Agreement, Commodore Mining Company, Del Monte Mining Company, Kanawha Mines, LLC, Settling Parties, Mineral County, Colorado, Purchaser

AGENCY: Environmental Protection Agency (EPA).

ACTION: Notice of proposed agreement; request for public comment.

SUMMARY: Notice is hereby given by the U.S. Environmental Protection Agency (EPA), Region 8, of an Administrative Settlement Agreement between the United States on behalf of the EPA, the State of Colorado, Commodore Mining Company, Del Monte Mining Company, Kanawha Mines, LLC, and Mineral County, Colorado (collectively “Parties”), at the Nelson Tunnel/Commodore Waste Rock Superfund Site in Mineral County, Colorado. The settlement provides that settling Parties will transfer certain mining claims to purchaser, which will in turn support purchaser's efforts to preserve the important historical structures on these mining claims. The Parties acknowledge that this settlement is structured to support purchaser's efforts to stabilize and preserve the historical structures. In exchange, this settlement resolves the settling Parties' alleged civil liability for the site. In exchange, this settlement also resolves purchaser's potential CERCLA liability.

DATES: Comments must be submitted on or before November 29, 2023.

ADDRESSES: The proposed agreement and additional background information relating to the agreement will be available upon request and will be posted at https://www.epa.gov/superfund/nelson-tunnel. Comments and requests for an electronic copy of the proposed agreement should be addressed to Natalie Timmons, Enforcement Specialist, Superfund and Emergency Management Division, Environmental Protection Agency—Region 8, Mail Code 8SEM-PAC, 1595 Wynkoop Street, Denver, Colorado 80202, telephone number: (303) 312-6385 or email address: timmons.natalie@epa.gov and should reference the Nelson Tunnel/Commodore Waste Rock Superfund Site.

You may also send comments, identified by Docket ID No. EPA-R08-SFUND-2023-0488 to https://www.regulations.gov. Follow the online instructions for submitting comments.

FOR FURTHER INFORMATION CONTACT: Erin Agee, Assistant Regional Counsel, Office of Regional Counsel, Environmental Protection Agency, Region 8, Mail Code 8 ORC-LEC, 1595 Wynkoop, Denver, Colorado 80202, telephone number: (303) 312-6374, email address: agee.erin@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Ben Bielenberg,
Acting Division Director, Superfund and Emergency Management Division, Region 8.

[FR Doc. 2023-23804 Filed 10-27-23; 8:45 am]

BILLING CODE 6560-50-P